DEPARTMENT OF DEFENSE

Department of the Army; Corps of Engineers

Intent To Prepare a Draft Supplement to the December 2009 Final Environmental Impact Statement (FEIS) for the Relocation of New River Inlet Ebb Tide Channel and the Placement of the Dredge Material Along 11.1 Miles of Ocean Shoreline of North Topsail Beach in Onslow County, NC

AGENCY: Department of the Army, U.S. Army Corps of Engineers, DoD.

ACTION: Notice of intent.

SUMMARY: The U.S. Army Corps of Engineers (USACE), Wilmington District, Wilmington Regulatory Field Office has received a request for Department of the Army (DA) authorization, pursuant to Section 404 of the Clean Water Act and Section 10 of the Rivers and Harbor Act, from the Town of North Topsail Beach to modify their original May 27, 2011 DA authorization to relocate the New River Inlet ebb tide channel and to place dredge material along 11.1 miles of oceanfront shoreline in (5) phases over an eight to nine year timeframe. Additionally, the authorization permits up to a maximum of (7) maintenance events within the relocated ebb tide channel, which is equivalent to a maximum of one maintenance event every 4 years until authorization expires on December 31, 2041. The main purpose of the project is to provide short and long-term protection of the Town's infrastructure. The proposed modification request includes the consolidation of Phases II-V into one phase (in a single dredging event), the utilization of a hopper dredge, an increase of beach fill density in the original Phase V footprint, the inclusion of an additional borrow source, and the extension of dredging outside the permitted dredge window.

DATES: Written comments will be received until July 22, 2013.

ADDRESSES: Copies of comments and questions regarding the Draft Supplement to the FEIS may be submitted to: U.S. Army Corps of Engineers, Wilmington District, Regulatory Division. ATTN: File Number 205-00344 (ORM #2004-00344), 69 Darlington Avenue, Wilmington, NC 28403.

FOR FURTHER INFORMATION CONTACT: Questions about the proposed action and Supplement to the EIS can be directed to Mr. Mickey Sugg, Project Manager, Wilmington Regulatory Field Office, at telephone (910) 251-4811; email mickey.t.sugg@usace.army.mil ; or regular mail at (see ADDRESSES).

SUPPLEMENTARY INFORMATION:

1. Proposed Action. Between November 26, 2012 and February 9, 2013, the Town of North Topsail Beach implemented Phase I of their authorization, which encompassed the relocation of the New River Inlet ebb tide channel by use of a cutter head dredge and the placement of the dredged material along approximately 1.5 miles of the island's northeast end. Upon the completion of Phase I, the Town has reevaluated its financial status and seeks to modify their DA authorization. A key component in the modification request is to combine Phases II-V. This would replace the current multi-nourishment cycle within the remaining 9.6 miles with a one-time nourishment event constructed during a single dredging window. The proposal also requests that dredging be allowed outside the November 16-March 31 dredge window to extend their operation to April 30, and that the dredging operation include the use of hopper dredge plants. The Town seeks to include a new borrow source, DA143, which is an upland disposal island located near the intersection of New River and the Atlantic Intracoastal Waterway. Historically, DA 143 has been used by USACE as a disposal area during maintenance dredging of nearby federal navigation channels. It is estimated that the disposal island contains approximately 1.9 million cubic yards of material, which will be short of the approximate 2.6 million cubic yards needed for the 9.6 miles of ocean front nourishment. With this short fall of beach fill, the remaining material will be dredged from the existing permitted off-shore borrow source. The 2.6 million cubic yards of material includes the Town's modification plans to increase the original fill density of Phase V from 25.2 cubic yards/linear foot to a range of 57-132 cubic yards/linear foot.

2. Scoping Process. a. The USACE will reinitiate consultation with the U.S. Fish and Wildlife Service under the Endangered Species Act and the Fish and Wildlife Coordination Act; with the National Marine Fisheries Service under the Magnuson-Stevens Fishery Conservation and Management Act and the Endangered Species Act; and with the North Carolina State Historic Preservation Office under the National Historic Preservation Act. Additionally, the USACE will coordinate the FEIS Supplement with the North Carolina Division of Water Quality (NCDWQ) to assess the potential water quality impacts pursuant to Section 401 of the Clean Water Act, and with the North Carolina Division of Coastal Management (NCDCM) to determine the projects consistency with the Coastal Zone Management Act. The USACE will closely work with NCDCM and NCDWQ in the development of the Supplement to ensure the process complies with all State Environmental Policy Act (SEPA) requirements. It is the intention of both the USACE and the State of North Carolina to consolidate the NEPA and SEPA processes thereby eliminating duplication.

b. A 45-day public review period will be provided for all interested parties, individuals, and agencies to review and comment on the Draft Supplement to the FEIS when released.

3. Availability of the Supplement to the EIS. The Draft Supplement is expected to be published and circulated the summer of 2013.

Dated: June 12, 2013.
Scott McLendon,
Chief, Regulatory Division.

[FR Doc. 2013-14725 Filed 6-20-13; 8:45 am]

BILLING CODE 3720-58-P